ENVIRONMENTAL PROTECTION AGENCY

[FRL-13028-01-R9]

Clean Air Act Operating Permit Program; Order on Petition for Objection to State Operating Permit for the Apache Generating Station

AGENCY: Environmental Protection Agency (EPA).

ACTION: Notice of final order on petition.

SUMMARY: The Environmental Protection Agency (EPA) Administrator signed an order dated September 16, 2025, granting in part and denying in part a petition dated September 18, 2024, from Sierra Club. The Petition requested that the EPA object to a Clean Air Act (CAA) title V operating permit issued by the Arizona Department of Environmental Quality (ADEQ) to the Arizona Electric Power Cooperative Inc., Apache Generating Station (“Apache”) for its power generating facility in Cochise County, Arizona.

FOR FURTHER INFORMATION CONTACT: Catherine Valladolid, EPA Region 9, (415) 947-4103, valladolid.catherine@epa.gov. The final Order and Petition are available electronically at: https://www.epa.gov/title-v-operating-permits/title-v-petition-database.

SUPPLEMENTARY INFORMATION: The EPA received a petition from Sierra Club dated September 18, 2024, requesting that the EPA object to the issuance of operating permit no. 69734, issued by the ADEQ to Apache in Cochise County, Arizona. On September 16, 2025, the EPA Administrator issued an order granting in part and denying in part the petition. The order explains the basis for the EPA's decision.

Sections 307(b) and 505(b)(2) of the CAA provide that a petitioner may request judicial review of those portions of an order that deny issues in a petition. Any petition for review shall be filed in the United States Court of Appeals for the appropriate circuit no later than January 20, 2026.

Dated: October 24, 2025.
Michelle Angelich,
Acting Director, Air and Radiation Division, Region IX.

[FR Doc. 2025-20122 Filed 11-17-25; 8:45 am]

BILLING CODE 6560-50-P